DEPARTMENT OF ENERGY

Federal Energy Regulatory Commission

[Docket No. AD24-7-000]

Federal and State Current Issues Collaborative; Notice Announcing Meeting

On March 21, 2024, the Commission established a Federal and State Current Issues Collaborative (Collaborative) to explore cross-jurisdictional issues relevant to FERC and state utility commissions.¹

¹ Fed. and State Current Issues Collaborative, 186 FERC ¶ 61,189 (2024) (Establishing Order).

The third public meeting of the Collaborative will be held on July 27, 2025, from approximately 9:30 a.m.-12:00 p.m. EDT, at the Omni Boston Hotel at the Seaport in Boston, Massachusetts. The meeting will be open to the public for listening and observing and on the record. There is no fee for attendance and registration is not required. The public may also attend via Webcast. This meeting will be transcribed. Transcripts will be available for a fee from Ace Reporting, 202-347-3700.

Commission conferences are accessible under section 508 of the Rehabilitation Act of 1973. For accessibility accommodations, please send an email to accessibility@ferc.gov or call toll free 1-866-208-3372 (voice) or 202-208-8659 (TTY), or send a fax to 202-208-2106 with the required accommodations.

The overarching topic the Collaborative will discuss is the States' Role in Regional Transmission Organization (RTO) Governance, including on resource adequacy issues. As explained in the Establishing Order, the Commission will issue agendas for each meeting, after consulting with members of the Collaborative and considering suggestions from state commissions.² The Commission will issue the specific agenda for the third public meeting no later than July 11, 2025.

² Id. P 7.

More information about the Collaborative is available here: https://www.ferc.gov/federal-state-current-issues-collaborative. For questions related to the Collaborative, please contact: Robert Thormeyer, 202-502-8694, robert.thormeyer@ferc.gov, CeCe Coffey, 202-502-8040, cecelia.coffey@ferc.gov, or Kimberly Duffley, 202-898-1305, kduffley@naruc.org.

Dated: June 23, 2025.
Debbie-Anne A. Reese,
Secretary.

[FR Doc. 2025-11828 Filed 6-25-25; 8:45 am]

BILLING CODE 6717-01-P